DEPARTMENT OF LABOR

Employment and Training Administration

[TA-W-62,919]

Penske Logistics, Elliston, VA; Notice of Termination of Investigation

Pursuant to section 221 of the Trade Act of 1974, as amended, an investigation was initiated on February 28, 2008 in response to a worker petition filed by a state agency representative on behalf of workers of Penske Logistics, Elliston, Virginia.

The petitioner has requested that the petition be withdrawn. Consequently, the investigation has been terminated.

Signed at Washington, DC, this 19th day of March 2008.
Richard Church,
Certifying Officer, Division of Trade Adjustment Assistance.

[FR Doc. E8-6119 Filed 3-25-08; 8:45 am]

BILLING CODE 4510-FN-P